DEPARTMENT OF ENERGY

Federal Energy Regulatory Commission

[Project No. 2611-071]

Madison Paper Industries, Hydro Kennebec LLC; Notice of Application for Transfer of License and Soliciting Comments and Motions To Intervene

September 3, 2009.

On September 1, 2009, Madison Paper Industries (transferor) and Hydro Kennebec LLC (transferee) filed an application for transfer of license of the Hydro Kennebec Project located in Kennebec and Somerset Counties, Maine, on the Kennebec River.

Applicants seek Commission approval to transfer the license for the Hydro Kennebec Project from the transferor to the transferee.

Applicant Contact: Transferor: Madison Paper Industries—Ms. Sarah A. Verville, Pierce Atwood LLP, One Monument Square, Portland, ME 04101, (207) 791-1100 e-mail: sverville@pterceatwood.com. Transferee: Hydro Kennebec LLC—Mr. Douglas W. Everette, Patton Boggs LLP, 2550 M Street, NW., Washington, DC 20037, phone (202) 457-5618, e-mail: deverette@pattonboggs.com.

FERC Contact: Patricia W. Gillis, (202) 502-8735.

Deadline for filing comments and motions to intervene: October 1, 2009. Comments and motions to intervene may be filed electronically via the Internet. See 18 CFR 385.2001(a)(1)(iii)(2008) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of the Commission's Web site at http://www.ferc.gov/docs-filing/elibrary.asp. Enter the docket number (P-2611-071) in the docket number field to access the document. For assistance, call toll-free 1-866-208-3372.

Kimberly D. Bose,
Secretary.

[FR Doc. E9-21871 Filed 9-10-09; 8:45 am]

BILLING CODE 6717-01-P